Title 3—

The President

Executive Order 13480 of November 26, 2008

Exclusions From the Federal Labor-management Relations Program

By the authority vested in me as President by the Constitution and the laws of the United States of America, including section 7103(b)(1) of title 5, United States Code, and in order to reflect the effects of the reorganization and restructuring of the Departments of Energy, Homeland Security, Justice, Transportation, and the Treasury on their subdivisions exempted from coverage under the Federal Labor-Management Relations Program, it is hereby ordered as follows:

Section 1. Determinations. The subdivisions of the Departments of Energy, Homeland Security, Justice, Transportation, and the Treasury set forth in sections 2 through 6 of this order are hereby determined to have as a primary function intelligence, counterintelligence, investigative, or national security work. It is further determined that chapter 71 of title 5, United States Code, cannot be applied to these subdivisions in a manner consistent with national security requirements and considerations.

Sec. 2. Department of Energy. Executive Order 12171 of November 19, 1979, as amended, is further amended by revising section 1-210 to read as follows:

“1-210. Agencies or subdivisions of the Department of Energy:

(a) The National Nuclear Security Administration.

(b) The Office of Intelligence.

(c) The Office of Counterintelligence.

(d) The Office of Intelligence and Counterintelligence.

(e) The Savannah River Operations Office.”

Sec. 3. Department of Homeland Security. Executive Order 12171 of November 19, 1979, as amended, is further amended by revising section 1-214 to read as follows:

“1-214. Agencies or subdivisions of the Department of Homeland Security:

(a) Office of the Military Advisor.

(b) The following office within the Management Directorate:

(1) Office of Security.

(c) Office of Operations Coordination.

(d) Office of Counternarcotics Enforcement.

(e) Office of Intelligence and Analysis.

(f) Domestic Nuclear Detection Office.

(g) The following offices and subdivisions within the United States Coast Guard:

(1) Maritime Intelligence Fusion Centers, Atlantic.

(2) Pacific Area Intelligence Division.

(3) Intelligence Coordination Center.

(4) Coast Guard Investigative Service.

(5) Coast Guard Security Center.

(h) The following offices and subdivisions within United States Immigration and Customs Enforcement:

(1) The Office of Investigations.

(2) The Office of International Affairs.

(3) The Office of Intelligence.

(4) The National Incident Response Unit.

(i) The following office within the Transportation Security Administration:

(1) The Office of Law Enforcement/Federal Air Marshal Service.

(j) The following office within United States Customs and Border Protection:

(1) The Office of Intelligence and Operations Coordination.

(k) The following offices and subdivisions within the Federal Emergency Management Agency:

(1) The following offices and subdivisions within the Office of National Continuity Programs:

(A) The Office of the Assistant Administrator.

(B) The Operations Division.

(C) The Continuity of Operations Division.

(D) The Readiness Division.

(E) The Integrated Public Alert and Warning Systems Division.

(2) The following subdivisions within the Disaster Operations Directorate:

(A) The Mobile Emergency Response Support Operations, including Mobile Emergency Response Support Detachments.

(B) The FEMA Operations Center.

(C) The Alternate FEMA Operations Center.“

Sec. 4. Department of Justice. Executive Order 12171 of November 19, 1979, as amended, is further amended by:

(a) revising subsection (g) of section 1-209 to read as follows:

“(g) National Security Division.”; and

(b) adding to the end of section 1-209 the following new subsection:

“(h) Bureau of Alcohol, Tobacco, Firearms, and Explosives.”

Sec. 5. Department of Transportation. Executive Order 12171 of November 19, 1979, as amended, is further amended by revising section 1-213 to read as follows:

“1-213. The following subdivision of the Federal Aviation Administration (FAA), Department of Transportation: National Security Coordination Division, Office of Emergency Operations and Investigations, FAA Office of Security and Hazardous Materials.”

Sec. 6. Department of the Treasury. Executive Order 12171 of November 19, 1979, as amended, is further amended by revising section 1-203 to read as follows:

“1-203. Agencies or subdivisions of the Department of the Treasury:

(a) The Office of Terrorism and Financial Intelligence.

(b) The Financial Crimes Enforcement Network.

(c) Criminal Investigation, Internal Revenue Service.

(d) The Trade Analysis and Enforcement Division, Alcohol and Tobacco Tax and Trade Bureau.“

Sec. 7. This order is not intended to, and does not, create any right or benefit, substantive or procedural, enforceable at law or in equity by any party against the United States, its agencies, instrumentalities, or entities, its officers, employees, or agents, or any other person.

THE WHITE HOUSE,

November 26, 2008.

[FR Doc. E8-28912

Filed 12-3-08; 11:15 am]

Billing code 3195-W9-P